ENVIRONMENTAL PROTECTION AGENCY

[EPA-HQ-OW-2011-0439; FRL-10832-01-OMS]

Agency Information Collection Activities; Submission to the Office of Management and Budget for Review and Approval; Comment Request; Disinfectants/Disinfection Byproducts, Chemical, and Radionuclides Rules (Renewal)

AGENCY: Environmental Protection Agency (EPA).

ACTION: Notice.

SUMMARY: The Environmental Protection Agency (EPA) has submitted an information collection request (ICR), “Disinfectants/Disinfection Byproducts, Chemical, and Radionuclides Rules” (EPA ICR Number 1896.12, OMB Control Number 2040-0204) to the Office of Management and Budget (OMB) for review and approval in accordance with the Paperwork Reduction Act. This is a proposed extension of the ICR, which is currently approved through March 31, 2023. Public comments were previously requested via the Federal Register on December 15, 2021 during a 60-day comment period. This notice allows for an additional 30 days for public comments.

DATES: Comments may be submitted on or before April 24, 2023.

ADDRESSES: Submit your comments, referencing Docket ID Number EPA-HQ-OW-2011-0442, to EPA online using www.regulations.gov (our preferred method), by email to OW-Docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Kevin Roland, Drinking Water Infrastructure Development Division, Office of Ground Water and Drinking Water, (4606M), Environmental Protection Agency, 1200 Pennsylvania Ave. NW, Washington, DC 20460; telephone number: 202-564-4588: fax number: 202-564-3755; email address: roland.keving@epa.gov.

SUPPLEMENTARY INFORMATION: This is a proposed extension of the ICR, which is currently approved through March 31, 2023. An agency may not conduct or sponsor and a person is not required to respond to a collection of information unless it displays a currently valid OMB control number.

Public comments were previously requested via the Federal Register on December 15, 2021 during a 60-day comment period (86 FR 71265). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Disinfectants/Disinfection Byproducts, Chemical, and Radionuclides Rules ICR examines public water system and primacy agency burden and costs for recordkeeping and reporting requirements in support of the microbial drinking water regulations. These recordkeeping and reporting requirements are mandatory for compliance with 40 CFR parts 141 and 142. The following regulations are included: the Stage 1 Disinfectants and Disinfection Byproducts Rule (Stage 1 DBPR), the Stage 2 Disinfectants and Disinfection Byproducts Rule (Stage 2 DBPR), the Chemical Phase Rules (Phases II/IIB/V), the Radionuclides Rule, Disinfectant Residual Monitoring and Associated Activities under the Surface Water Treatment Rule (SWTR),¹ the Arsenic Rule and the Lead and Copper Rule (LCR), including the Lead and Copper Rule Short Term Revisions. Future chemical-related rulemakings will be added to this consolidated ICR after the regulations are promulgated and the initial, rule-specific, ICRs are due to expire.

¹ Includes only SWTR components relating to disinfectant residual monitoring and associated activities. All remaining SWTR requirements are included in the Microbial Rules ICR.

Form numbers: None.

Respondents/affected entities: Public water systems and primacy agencies.

Respondent's obligation to respond: Mandatory for compliance with 40 CFR parts 141 and 142.

Estimated number of respondents: 144,197 (total).

Frequency of response: Varies by requirement (i.e., on occasion, monthly, quarterly, semi-annually, and annually).

Total estimated burden: 5,652,398 hours (per year). Burden is defined at 5 CFR 1320.03(b).

Total estimated cost: $593,972,000 (per year), which includes $319,880,000 annualized capital or operation & maintenance costs.

Changes in the estimates: There is an increase of 491,043 hours in the total estimated respondent burden compared with the ICR currently approved by OMB. This is due to increases in burden from the previous ICR for LCR sampling, analysis and report writing from industry consultation.

Courtney Kerwin,
Director, Regulatory Support Division.

[FR Doc. 2023-06037 Filed 3-23-23; 8:45 am]

BILLING CODE 6560-50-P